FEDERAL COMMUNICATIONS COMMISSION

47 CFR Part 73

[DA 05-34; MB Docket No.04-380; RM-11069]

Radio Broadcasting Services; Corydon and Lanesville, IN

AGENCY: Federal Communications Commission.

ACTION: Final rule.

SUMMARY: In response to a Notice of Proposed Rule Making, 69 FR 60604 (October 12, 2004), this document reallots Channel 243A from Corydon, Indiana, to Lanesville, Indiana, and modifies the license of Station WGZB-FM accordingly. The coordinates for Channel 243A at Lanesville are 38-12-52 North Latitude and 86-01-00 West Longitude, with a site restriction of 3.68 kilometers (2.29 miles) southwest of the community.

DATES: Effective February 25, 2005.

FOR FURTHER INFORMATION CONTACT: Helen McLean, Media Bureau, (202) 418-2738.

SUPPLEMENTARY INFORMATION: This is a synopsis of the Commission's Report and Order, MB Docket No. 04-380, adopted January 5, 2005, and released January 10, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the General Accountability Office pursuant to the Congressional Review Act, see 5 U.S.C. 801(a)(1)(A).

List of Subjects in 47 CFR Part 73

Radio, Radio broadcasting.

Part 73 of title 47 of the Code of Federal Regulations is amended as follows:

PART 73—RADIO BROADCAST SERVICES

1.The authority citation for part 73 reads as follows:

Authority: 47 U.S.C. 154, 303, 334 and 336.

§ 73.202 [Amended]

2. Section 73.202(b), the Table of FM Allotments under Indiana, is amended by removing Channel 243A at Corydon, and by adding Lanesville, Channel 243A.

Federal Communications Commission.
John A. Karousos,
Assistant Chief, Audio Division, Media Bureau.

[FR Doc. 05-1604 Filed 1-27-05; 8:45 am]

BILLING CODE 6712-01-P